GENERAL SERVICES ADMINISTRATION

[Notice-WWICC-2018-02; Docket No. 2018-0003; Sequence No. 2]

World War One Centennial Commission; Notification of Upcoming Public Advisory Meeting

AGENCY: World War One Centennial Commission, GSA.

ACTION: Meeting notice.

SUMMARY: Notice of this meeting is being provided according to the requirements of the Federal Advisory Committee Act. This notice provides the schedule and agenda for the June meeting of the World War One Centennial Commission (the Commission). The meeting is open to the public.

DATES: Meeting date: The meeting will be held on Wednesday, June 20, 2018, starting at 9:00 a.m., Central Daylight Time (CDT), and ending no later than 12:00 p.m., CDT.

Written Comments may be submitted to the Commission and will be made part of the permanent record of the Commission. Comments must be received by 5:00 p.m., Eastern Daylight Time (EDT), June 15, 2018, and may be provided by email to daniel.dayton@worldwar1centennial.org. Requests to comment, together with presentations for the meeting, must be received by 5:00 p.m., EDT, on Friday, June 15, 2018.

ADDRESSES: The meeting will be held at the National World War I Museum and Memorial, 100 W 26th Street, Kansas City, MO 64108. This location is handicapped accessible. The meeting will be open to the public. Persons attending are requested to refrain from using perfume, cologne, and other fragrances (see http://www.access-board.gov/about/policies/fragrance.htm for more information).

FOR FURTHER INFORMATION CONTACT: Daniel S. Dayton, Designated Federal Officer, World War 1 Centennial Commission, 701 Pennsylvania Avenue NW, 123, Washington, DC 20004-2608, telephone 202-380-0725 (note: This is not a toll-free number).

Contact Daniel S. Dayton at daniel.dayton@worldwar1centennial.org to register to comment during the meeting's 30-minute public comment period. Registered speakers/organizations will be allowed five (5) minutes, and will need to provide written copies of their presentations. Please contact Mr. Dayton at the email address above to obtain meeting materials.

SUPPLEMENTARY INFORMATION:

Background

The World War One Centennial Commission was established by Public Law 112-272 (as amended), as a commission to ensure a suitable observance of the centennial of World War I, to provide for the designation of memorials to the service of members of the United States Armed Forces in World War I, and for other purposes. Under this authority, the Committee will plan, develop, and execute programs, projects, and activities to commemorate the centennial of World War I, encourage private organizations and State and local governments to organize and participate in activities commemorating the centennial of World War I, facilitate and coordinate activities throughout the United States relating to the centennial of World War I, serve as a clearinghouse for the collection and dissemination of information about events and plans for the centennial of World War I, and develop recommendations for Congress and the President for commemorating the centennial of World War I.

Agenda: Wednesday June 20, 2018

Old Business

• Approval of minutes of previous meetings

• Public Comment Period

New Business

Executive Director Report—Executive Director Dayton

Education Report—Commissioner O'Connell

International Report—Commissioner Seefried

World War 1 Memorial—Vice Chair Fountain

Chairman's Report—Vice Chair Fountain

Other business as may appropriately come before the Commission

Set next meeting—October 2, 2018—Chicago, IL

Adjourn

Dated: May 21, 2018.
Daniel S. Dayton,
Designated Federal Official, World War I Centennial Commission.

[FR Doc. 2018-11230 Filed 5-24-18; 8:45 am]

BILLING CODE 6820-95-P